NEIGHBORHOOD REINVESTMENT CORPORATION

Sunshine Act Meetings

TIME AND DATE: 2:30 p.m., Tuesday, March 25, 2025.

PLACE: via ZOOM.

STATUS: Parts of this meeting will be open to the public. The rest of the meeting will be closed to the public.

MATTERS TO BE CONSIDERED:

Audit Committee of the Board of Directors Meeting

The General Counsel of the Corporation has certified that in her opinion, one or more of the exemptions set forth in the Government in the Sunshine Act, 5 U.S.C. 552b(c)(2) permit closure of the following portion(s) of this meeting:

• Executive (Closed) Session

Agenda

I. Call to Order

II. Sunshine Act Approval of Executive (Closed) Session

III. Executive Session: External Auditor's Report

IV. Executive Session: GAO Workplan Update

V. Executive Session: Executive Session with Chief Audit Executive

VI. Action Item: Approval of the FY2024 External Audit and Recommendation to the Board

VII. Action Item: Internal Audit Status Reports

VIII. Discussion Item: Proposed Revision to the Audit Committee and Internal Audit Charters

IX. Discussion Item: Status on Quality Assurance Review (QAR) Improvements

X. Discussion Item: Internal Audit Status Reports

PORTIONS OPEN TO THE PUBLIC: Everything except the Executive (Closed) Session.

PORTIONS CLOSED TO THE PUBLIC: Executive (Closed) Session.

CONTACT PERSON FOR MORE INFORMATION: Jenna Sylvester, Paralegal, (202) 568-2560; jsylvester@nw.org.

Jenna Sylvester,
Paralegal.

[FR Doc. 2025-04315 Filed 3-12-25; 4:15 pm]

BILLING CODE 7570-01-P